DEPARTMENT OF HOMELAND SECURITY

Federal Emergency Management Agency

44 CFR Part 67

[Docket ID FEMA-2011-0002; Internal Agency Docket No. FEMA-B-1193]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before August 8, 2011.

ADDRESSES: The corresponding preliminary Flood Insurance Rate Map (FIRM) for the proposed BFEs for each community is available for inspection at the community's map repository. The respective addresses are listed in the table below.

You may submit comments, identified by Docket No. FEMA-B-1193, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
St. Clair County, Alabama, and Incorporated Areas
Coosa River | At the Fishing Creek confluence | None | +477 | Town of Ragland, Town of Riverside.
| Approximately 5.5 miles downstream of Neely Henry Dam | None | +486 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Ragland
Maps are available for inspection at 220 Fredia Street, Suite 102, Ragland, AL 35131.
Town of Riverside
Maps are available for inspection at 379 Depot Street, Riverside, AL 35135.
Cass County, Missouri, and Incorporated Areas
Lake Winnebago | Entire shoreline | +922 | +923 | City of Lake Winnebago.
Unnamed Tributary to Lumpkins Fork (backwater effects from Lumpkins Fork) | From approximately 275 feet upstream of the Lumpkins Fork confluence to approximately 850 feet upstream of the Lumpkins Fork confluence | None | +962 | City of Raymore.
Unnamed Tributary to Mill Creek (backwater effects from Mill Creek) | From approximately 50 feet upstream of the Mill Creek confluence to approximately 850 feet upstream of the Mill Creek confluence | None | +893 | Village of Loch Lloyd.
Unnamed Tributary to Poney Creek (backwater effects from Poney Creek) | From approximately 1,300 feet upstream of the Poney Creek confluence to approximately 1.0 mile upstream of the Poney Creek confluence | None | +845 | Unincorporated Areas of Cass County
Unnamed Tributary to South Grand River (backwater effects from South Grand River) | From approximately 1,850 feet upstream of South Lake Annette Road to approximately 0.49 mile upstream of South Lake Annette Road | None | +849 | Unincorporated Areas of Cass County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lake Winnebago
Maps are available for inspection at City Hall, 10 East Winnebago Drive, Lake Winnebago, MO 64034.
Unincorporated Areas of Cass County
Maps are available for inspection at Cass County Courthouse, 102 East Wall Street, Harrisonville, MO 64701.
Village of Loch Loyd
Maps are available for inspection at the Loch Lloyd Trustee's Office, 16750 Country Club Drive, Loch Lloyd, MO 64012.
Dauphin County, Pennsylvania (All Jurisdictions)
Mahantango Creek | Approximately 1.88 miles upstream of Malta Road | None | +434 | Township of Mifflin.
| Approximately 0.38 mile downstream of Market Street | None | +470 |
Rattling Creek | Approximately 185 feet upstream of Glen Park Road | None | +762 | Township of Jackson.
| Approximately 630 feet upstream of Glen Park Road | None | +768 |
Wiconisco Creek (Upper Reach) | Approximately 1.26 miles downstream of the Rattling Creek confluence | None | +603 | Township of Washington.
| Approximately 1.11 miles downstream of the Rattling Creek confluence | None | +606
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Jackson
Maps are available for inspection at the Jackson Township Building, 450 Bastion Road, Halifax, PA 17032.
Township of Mifflin
Maps are available for inspection at the Mifflin Township Building, 3843 Shippen Dam Road, Millersburg, PA 17061.
Township of Washington
Maps are available for inspection at the Washington Township Municipal Building, 185 Manors Road, Elizabethville, PA 17023.

(Catalog of Federal Domestic Assistance No. 97.022, “Flood Insurance.”)

Dated: April 28, 2011.
Sandra K. Knight,
Deputy Federal Insurance and Mitigation Administrator, Mitigation, Department of Homeland Security, Federal Emergency Management Agency.

[FR Doc. 2011-11425 Filed 5-9-11; 8:45 am]

BILLING CODE 9110-12-P